DEPARTMENT OF COMMERCE

National Oceanic and Atmospheric Administration

Availability of Seat for the Olympic Coast National Marine Sanctuary Advisory Council

AGENCY: National Marine Sanctuary Program (NMSP), National Ocean Service (NOS), National Oceanic and Atmospheric Administration (NOAA), Department of Commerce (DOC).

ACTION: Notice and request for applications.

SUMMARY: The Olympic Coast National Marine Sanctuary (OCNMS or Sanctuary) is seeking applicants for the following vacant seat on its Sanctuary Advisory Council (Council): Education. Applicants are chosen based upon their particular expertise and experience in relation to the seat for which they are applying; community and professional affiliations; philosophy regarding the protection and management of marine resources; and possibly the length of residence in the area affected by the Sanctuary. Applicants who are chosen as members should expect to serve three-year terms, pursuant to the Council's Charter.

DATES: Applications are due by May 30, 2004.

ADDRESSES: Application kits may be obtained from Andrew Palmer, Olympic Coast National Marine Sanctuary, 115 East Railroad Ave., Port Angeles, WA 98362-2925. Completed applications should be sent to the same address.

FOR FURTHER INFORMATION CONTACT: Andrew Palmer, Olympic Coast National Marine Sanctuary, 115 East Railroad Ave., Port Angeles, WA 98362-2925, (360) 457-6622 ext. 15, or e-mail at andrew.palmer@noaa.gov.

SUPPLEMENTARY INFORMATION: The Olympic Coast National Marine Sanctuary was established in 1994. The Sanctuary contains highly productive marine habitats and is home to a wide variety of marine mammals, fish, and seabirds. The Sanctuary seeks to protect these marine resource while, at the same, allowing for compatible uses.

The Sanctuary Advisory Council provides NOAA with advice on the management of the Sanctuary. Members provide advice to the Olympic Coast Sanctuary Superintendent on Sanctuary issues. The Council, through its members, also serve as liaisons to the community regarding Sanctuary issues and act as a conduit, relaying the community's interests, concerns, and management needs to the Sanctuary.

The Sanctuary Advisory Council members represent public interest groups, local industry, commercial and recreational user groups, academia, conservation groups, government agencies, and the general public.

Authority: 16 U.S.C. 1431, et seq.

(Federal Domestic Assistance Catalog Number 11.429 Marine Sanctuary Program)
Dated: April 30, 2004.
Jamison S. Hawkins,
Deputy Assistant Administrator for Management, Ocean Services and Coastal Zone Management, National Oceanic and Atmospheric Administration.

[FR Doc. 04-10419 Filed 5-6-04; 8:45 am]

BILLING CODE 3510-NF-M